DEPARTMENT OF COMMERCE

International Trade Administration

Meeting of the United States Travel and Tourism Advisory Board

AGENCY: International Trade Administration, U.S. Department of Commerce.

ACTION: Notice of an open meeting by teleconference.

SUMMARY: The United States Travel and Tourism Advisory Board (Board) will hold an open call on Wednesday, June 17, 2015. The Board was re-chartered in August 2013, to advise the Secretary of Commerce on matters relating to the travel and tourism industry.

During this call, the Board will deliberate recommendations related to the national goal on the international arrivals process. The agenda may change to accommodate Board business. The final agenda will be posted on the Department of Commerce Web site for the Board at http://trade.gov/ttab, at least one week in advance of the call.

DATES: Wednesday, June 17, 2015, 11:00 a.m.-12:30 p.m. The deadline for members of the public to register, including requests to make comments during the meetings, or to submit written comments for dissemination prior to the meeting, is 5 p.m. EDT on June 10, 2015. Register by sending an email to Niara.Phillips@trade.gov.

ADDRESSES: Via teleconference.

FOR FURTHER INFORMATION CONTACT: Niara Phillips, the United States Travel and Tourism Advisory Board, Room 4043, 1401 Constitution Avenue NW., Washington, DC 20230, telephone: 202-482-4501, email: niara.phillips@trade.gov.

SUPPLEMENTARY INFORMATION:

Background: The Board advises the Secretary of Commerce on matters relating to the U.S. travel and tourism industry.

Public Participation: The call will be open to the public. All guests are required to register in advance by the deadline identified under the DATES caption, and will receive upon registering a copy of the draft letter to be deliberated.

There will be 15 minutes of time allotted for oral comments from members of the public joining the call. To accommodate as many speakers as possible, the item for public comments will be limited to three (3) minutes per person. Individuals wishing to reserve speaking time during the meeting must submit a request at the time of registration along with a brief statement of the general nature of the comments, as well as the name and address of the proposed speaker. If the number of registrants requesting to make statements is greater than can be reasonably accommodated during the meeting, the International Trade Administration may conduct a lottery to determine the speakers. Any member of the public may submit pertinent written comments concerning the Board's affairs at any time before or after the call. Comments may be submitted to Niara Phillips at the contact information indicated above.

To be considered during the call, comments must be received no later than 5:00 p.m. EDT on June 10, 2015, to ensure transmission to the Board prior to the call. Comments received after that deadline will be distributed to the members but may not be considered on the call. A recording will be available within 90 days of the call.

Dated: May 27, 2015.
Brandie Baggatts,
Executive Secretary, United States Travel and Tourism Advisory Board.

[FR Doc. 2015-13154 Filed 6-1-15; 8:45 am]

BILLING CODE 3510-DR-P